DEPARTMENT OF JUSTICE

Antitrust Division

Notice Pursuant to the National Cooperative Research and Production Act of 1993—Open Axis Group, Inc.

Notice is hereby given that, on October 6, 2010, pursuant to Section 6(a) of the National Cooperative Research and Production Act of 1993, 15 U.S.C. 4301 et seq. (“the Act”), Open Axis Group, Inc. (“Open Axis”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: American Airlines, Fort Worth, TX; US Airways, Tempe, AZ; Air Canada, Saint-Laurent, Quebec, CANADA; Continental Airlines, Houston, TX; Delta Air Lines, Inc., Atlanta, GA; United Airlines, Inc., Chicago, IL; Airline Tariff Publishing Company, Dulles, VA; Airlines Reporting Corporation, Arlington, VA; Datalex, Dublin, IRELAND; PASS Consulting Corp., Miami Beach, FL; Mobiata, Ann Arbor, MI; AOl Marketing, Minneapolis, MN; eNett International (Jersey) Ltd., Saint Helier, Jersey, UNITED KINGDOM; Farelogix, Miami, FL; Vayant Travel Technologies Inc., Lewes, DE; Guestlogix Inc., Toronto, Ontario, CANADA; Ypsilon.net AG, Frankfurt, GERMANY; and Rearden Commerce, Foster City, CA. The general area of Open Axis's planned activity is to promote the extensible markup language (“XML”) as the optimal electronic messaging structure for airline system connectivity. In support of this purpose, Open Axis intends to adopt, promote, and maintain standardized XML schema tailored to the airline industry and capable of delivering comprehensive functionality to both supply and demand sides of the travel supply chain (“Standards”) on a worldwide basis.

Open Axis may also engage in some or all of the following activities: (i) Provide for testing and conformity assessment of implementations in order to ensure and/or facilitate compliance with Standards; (ii) operate a branding program based upon distinctive trademarks to create high customer awareness of, demand for, and confidence in products designed in compliance with Standards; (iii) develop and/or fund the development of interoperability and/or certification tests; (iv) administer or subcontract testing services; (v) create and own distinctive trademarks, service marks, and/or certification marks; (vi) administer or subcontract a branding program; (vii) create printed and/or electronic materials for distribution to members and non-members; (viii) maintain its own Web site; (ix) coordinate the promotion of Standards among members and non-members; (x) maintain relations with, and reference standards developed by, other standard setting organizations and industry consortia to ensure coherence among Standards maintained by Open Axis and such other organizations; and (xi) undertake those other activities which its Board of Directors may from time to time approve. Open Axis is not engaged in and does not intend to engage in production activities.

Patricia A. Brink,
Deputy Director of Operations, Antitrust Division.

[FR Doc. 2010-28561 Filed 11-15-10; 8:45 am]

BILLING CODE 4410-11-M